DEPARTMENT OF JUSTICE

Notice of Lodging of Proposed Consent Decree Under the Clean Water Act

On July 13, 2020, the Department of Justice lodged a proposed consent decree with the United States District Court for the District of New Hampshire in the lawsuit entitled United States of America v. City of Manchester, New Hampshire, Civil Action No. 20-cv-762.

The United States' Complaint alleges violations of the Clean Water Act and the City of Manchester's National Pollutant Discharge Elimination System Permit. The claims arise from the City's combined sewer overflows which have resulted in the discharge of pollutants from the City's wastewater collection system. The Consent Decree calls for an approximately twenty year program of improvements which will result in the City eliminating or capturing for treatment 95% of the City's annual wet weather combined sewage.

The publication of this notice opens a period for public comment on the consent decree. Comments should be addressed to the Assistant Attorney General, Environment and Natural Resources Division, and should refer to United States v. City of Manchester, D.J. Ref. No. 90-5-1-1-11620. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $20.50 (25 cents per page reproduction cost) payable to the United States Treasury.

Henry Friedman,
Assistant Section Chief, Environmental Enforcement Section, Environment and Natural Resources Division.

[FR Doc. 2020-15527 Filed 7-16-20; 8:45 am]

BILLING CODE 4410-15-P